SOCIAL SECURITY ADMINISTRATION

[Docket No. SSA-2022-0034]

Interventional Cooperative Agreement Program (ICAP)

AGENCY: Social Security Administration (SSA).

ACTION: Announcement of funding opportunity, the Interventional Cooperative Agreement Program (ICAP).

SUMMARY: We are announcing a newly opened funding opportunity, the fiscal year (FY) 2022 application period of the Interventional Cooperative Agreement Program (ICAP). The purpose of this program is to allow us to enter into cooperative agreements to collaborate with States, foundations, and other non-Federal groups and organizations who have the interest and ability to identify, operate, and partially fund interventional research. The Request for Applications is now open on Grants.gov.

FOR FURTHER INFORMATION CONTACT: Dionne Mitchell, Grant Officer, Office of Acquisition and Grants, Social Security Administration, Telephone: (410) 965-9534, or send an email to Grants.Team@ssa.gov (indicate “ICAP Inquiry” in subject line).

SUPPLEMENTARY INFORMATION: ICAP provides a process through which we can systematically solicit and review proposals from outside organizations (including States, foundations, and other non-Federal groups and organizations) and enter into cooperative agreements with them for collaboration on interventional research. We hope to benefit from and collaborate with local, external knowledge about potential interventions relevant to individuals who receive Social Security Disability Insurance (SSDI) or Supplemental Security Income (SSI) benefits. ICAP priority research topics are as follows:

• Eliminating the structural barriers in the labor market, including for racial, ethnic, or other underserved communities, including people with disabilities, in order to decrease the likelihood of people needing to receive or apply for SSDI or SSI benefits;

• Promoting self-sufficiency by helping people, including youth, enter, stay in, or return to the labor force;

• Coordinating planning between private and public human services agencies to improve the administration and effectiveness of the SSDI, SSI, and related programs;

• Assisting claimants in underserved communities to apply for or appeal determinations or decisions on claims for SSDI and SSI benefits; and

• Conducting outreach to people with disabilities who are potentially eligible to receive SSI.

For more information, please see the Request for Applications for funding opportunity FO# ICAP-ICAP-22-001 on Grants.gov.

We will hold a webinar for organizations interested in applying for this research funding opportunity on Wednesday, August 3 at 12 noon Eastern time. For more information and to register for the webinar, please see https://ocomm.gov1.qualtrics.com/jfe/form/SV_3EFkzi9aKDj3IrQ.

The Acting Commissioner of Social Security, Kilolo Kijakazi, Ph.D., M.S.W., having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2022-16109 Filed 7-26-22; 8:45 am]

BILLING CODE 4191-02-P